DEPARTMENT OF THE INTERIOR

Bureau of Land Management

[ID-200-1120-PH]

Resource Advisory Council Meeting

AGENCY: Bureau of Land Management, Interior.

ACTION: Notice of May Resource Advisory Council Meeting to be Held in Twin Falls District, Idaho.

SUMMARY: This notice announces the intent to hold a Resource Advisory Council (RAC) meeting in the Twin Falls District of Idaho on Tuesday, May 9, 2006. The meeting will be held at the Red Lion Canyon Springs Hotel, 1357 Blue Lakes Boulevard, in Twin Falls, Idaho.

SUPPLEMENTARY INFORMATION: The Twin Falls District Resource Advisory Council consists of the standard fifteen members residing throughout south central Idaho. Meeting agenda items will include updates on sub-committee efforts, Idaho State Sage Grouse Plan update, ongoing proposed energy efforts, FACA compliance, pending decisions and more.

FOR FURTHER INFORMATION CONTACT: Sky Buffat, Twin Falls District, Idaho, 400 West F Street, Shoshone, Idaho 83352, (208) 732-7307.

Dated: March 27, 2006.
Howard Hedrick,
Twin Falls District Manager.

[FR Doc. E6-4920 Filed 4-4-06; 8:45 am]

BILLING CODE 4310-GG-P